DEPARTMENT OF TRANSPORTATION

MARITIME ADMINISTRATION

Voluntary Intermodal Sealift Agreement (VISA)/Joint Planning Advisory Group (JPAG)

AGENCY: Maritime Administration, DOT.

ACTION: Synopsis of April 18-19, 2000, Meeting with VISA Participants.

On April 18-19, 2000, the Maritime Administration (MARAD) and the United States Transportation Command (USTRANSCOM) co-hosted a meeting of the VISA JPAG at USTRANSCOM, Scott Air Force Base, Illinois.

Meeting attendance was by invitation only, due to the nature of the information discussed and the need for a government-issued security clearance. Of the 48 U.S.-flag carrier corporate participants currently enrolled in VISA, 16 cleared VISA carrier representative companies participated in the JPAG. Representatives from the trucking and railroad industries were also present to explore their role in the movement of Department of Defense (DOD) cargoes. In addition, JPAG attendance included representatives from the DOD, the Military Traffic Management Command, Military Sealift Command, USTRANSCOM and MARAD.

Following opening remarks by Mr. Daniel F. McMillin, Deputy Director, Plans and Policy Directorate (TCJ5) USTRANSCOM, Government representatives provided participants with an overview of expected outcomes. The JPAG objectives included an exploration of the intermodal capability of VISA carriers to handle the loading of unit equipment and development of Concept of Operations (CONOPS) for moving ammunition from origin to port of debarkation. The VISA participants convened in separate work groups with Government analysts to discuss the above issues. Afterwards, the groups met together to discuss the results of their analyses. At the conclusion of the JPAG, VISA participants were briefed on the results of Exercise Turbo Challenge 2000.

The full text of the VISA program is published in 64 FR 8214-8222, dated February 18, 1999. One of the program requirements is that MARAD periodically publish a list of VISA participants in the Federal Register. As of April 19, 1999, the following commercial U.S.-flag vessel operators were enrolled in VISA with MARAD: Alaska Cargo Transport Inc., American Automar, Inc., American President Lines, Ltd., American Roll-On Roll-Off Carrier, LLC, American Ship Management, L.L.C., Automar International Car Carrier, Inc., Beyel Brothers Inc., Central Gulf Lines, Inc., Cook Inlet Marine, Crowley American Transport, Inc., Crowley Marine Services, Inc., CSX Lines, LLC, Dixie Fuels II, Limited, Double Eagle Marine, Inc./Caribe USA, Inc., Farrell Lines Incorporated, First American Bulk Carrier Corp., First Ocean Bulk Carrier-I, LLC, First Ocean Bulk Carrier-II, LLC, First Ocean Bulk Carrier-III, LLC, Foss Maritime Company, Gimrock Maritime, Inc., Liberty Shipping Group Limited Partnership, Lykes Lines Limited, LLC., Lynden Incorporated, Maersk Line, Limited, Matson Navigation Company, Inc., Maybank Navigation Company, LLC, McAllister Towing & Transportation Company, Inc., Moby Marine Corporation, NPR, Inc., OSG Car Carriers, Inc., Osprey Shipholding Corporation, L.L.C., Resolve Towing & Salvage, Inc., Samson Tug & Barge Company, Inc., Seacor Marine International Inc., Sealift Inc., Smith Maritime, Stevens Towing Co., Inc., Superior Marine Services, Inc., Totem Ocean Trailer Express, Inc., Trailer Bridge, Inc., TransAtlantic Lines LLC, Trico Marine Operators, Inc., Troika International, Ltd., U.S. Ship Management, Inc., Van Ommeren Shipping (USA) LLC, Waterman Steamship Corporation, and Weeks Marine, Inc.

CONTACT PERSON FOR ADDITIONAL INFORMATION: Mr. Raymond R. Barberesi, Director, Office of Sealift Support, (202) 366-2323.

By Order of the Maritime Administrator.
Dated: April 26, 2000.
Joel C. Richard,
Secretary.

[FR Doc. 00-10866 Filed 5-1-00; 8:45 am]

BILLING CODE 4910-81-P